DEPARTMENT OF HEALTH AND HUMAN SERVICES

Health Resources and Services Administration

Medical Student Education Program Non-Competitive Supplement; Correction

AGENCY: Health Resources and Services Administration (HRSA), Department of Health and Human Services.

ACTION: Notice; correction.

SUMMARY: HRSA published a document in the Federal Register of December 2, 2025, concerning the Medical Student Education Program Non-Competitive Supplement. The document contained an incorrect project period. The project period in the notice stated July 1, 2026, to June 30, 2027, but should instead state July 1, 2025, to June 30, 2026.

FOR FURTHER INFORMATION CONTACT: Andrea Knox, Acting Chief, Medical Training and Geriatrics Branch, Division of Medicine and Dentistry, Bureau of Health Workforce, HRSA, 5600 Fishers Lane, Rockville, MD 20852, email: aknox@hrsa.gov, phone: 301-443-4170.

SUPPLEMENTARY INFORMATION:

Correction

In the Federal Register of December 2, 2025, FR Doc. 2025-21742, page 55318, column 3, paragraph 3 of the Supplementary Information section, correct the “[project period]” caption to read as follows: “July 1, 2025, to June 30, 2026.”

Margaret M. Bush,
Deputy Administrator.

[FR Doc. 2026-03639 Filed 2-23-26; 8:45 am]

BILLING CODE 4165-15-P